DEPARTMENT OF THE TREASURY

Office of Foreign Assets Control

Notice of OFAC Sanctions Actions

AGENCY: Office of Foreign Assets Control, Treasury.

ACTION: Notice

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on March 27, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On March 27, 2025, OFAC determined that the persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

OFAC further determined that the persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. ESPARRAGOZA ROSAS, Enrique Dann (a.k.a. “GUERO”), Culiacan, Sinaloa, Mexico; DOB 22 Jul 1985; POB Sinaloa, Mexico; nationality Mexico; Gender Male; Secondary sanctions risk: section 1(b) of Executive Order 13224, as amended by Executive Order 13886; C.U.R.P. EARE850722HSLSSN03 (Mexico) (individual) [SDGT] [ILLICIT-DRUGS-EO14059] (Linked To: SINALOA CARTEL).

Designated pursuant to section 1(b)(i)(B) of E.O. 14059 for having provided, or attempted to provide, financial, material, or technological support for, or goods or services in support of, the Sinaloa Cartel, a person whose property and interests in property are blocked pursuant to E.O. 14059.

Designated pursuant to section 1(a)(iii)(C) of E.O. 13224, as amended, for having materially assisted, sponsored, or provided financial, material, or technological support for, or goods or services to or in support of, the Sinaloa Cartel, a person whose property and interests in property are blocked pursuant to E.O. 13224, as amended.

2. AMADOR VALENZUELA, Christian Noe, Mexicali, Baja California, Mexico; DOB 25 Jul 1988; POB Baja California, Mexico; nationality Mexico; Gender Male; Secondary sanctions risk: section 1(b) of Executive Order 13224, as amended by Executive Order 13886; C.U.R.P. AAVC880725HBCMLH00 (Mexico) (individual) [SDGT] [ILLICIT-DRUGS-EO14059] (Linked To: SINALOA CARTEL).

Designated pursuant to section 1(b)(iii) of E.O. 14059 for having been owned, controlled, or directed by, or has acted or purported to act for or on behalf of, directly or indirectly, Alberto David Benguiat Jimenez, a person whose property and interests in property are proposed to be blocked pursuant to E.O. 14059.

Designated pursuant to section 1(a)(iii)(A) of E.O. 13224, as amended, for having been owned, controlled, or directed by, or has acted or purported to act for or on behalf of, directly or indirectly, Alberto David Benguiat Jimenez, a person whose property and interests in property are proposed to be blocked pursuant to E.O. 13224, as amended.

3. DIAZ RODRIGUEZ, Salvador (a.k.a. “Chava”), Mexicali, Baja California, Mexico; DOB 29 Jul 1985; POB Baja California, Mexico; nationality Mexico; Gender Male; Secondary sanctions risk: section 1(b) of Executive Order 13224, as amended by Executive Order 13886; C.U.R.P. DIRS850729HBCZDL02 (Mexico) (individual) [SDGT] [ILLICIT-DRUGS-EO14059] (Linked To: SINALOA CARTEL).

Designated pursuant to section 1(b)(iii) of E.O. 14059 for having been owned, controlled, or directed by, or has acted or purported to act for or on behalf of, directly or indirectly, the Sinaloa Cartel, a person whose property and interests in property are blocked pursuant to E.O. 14059.

Designated pursuant to section 1(a)(iii)(A) of E.O. 13224, as amended, for having been owned, controlled, or directed by, or has acted or purported to act for or on behalf of, directly or indirectly, the Sinaloa Cartel, a person whose property and interests in property are blocked pursuant to E.O. 13224, as amended.

4. PAEZ VARGAS, Israel Daniel (a.k.a. “Tommy”), Mexicali, Baja California, Mexico; DOB 31 Jan 1980; POB Mexico City, Mexico; nationality Mexico; Gender Male; Secondary sanctions risk: section 1(b) of Executive Order 13224, as amended by Executive Order 13886; C.U.R.P. PAVl800131HDFZRS02 (Mexico) (individual) [SDGT] [ILLICIT-DRUGS-EO14059] (Linked To: SINALOA CARTEL).

Designated pursuant to section 1(b)(iii) of E.O. 14059 for having been owned, controlled, or directed by, or has acted or purported to act for or on behalf of, directly or indirectly, the Sinaloa Cartel, a person whose property and interests in property are blocked pursuant to E.O. 14059.

Designated pursuant to section 1(a)(iii)(A) of E.O. 13224, as amended, for having been owned, controlled, or directed by, or has acted or purported to act for or on behalf of, directly or indirectly, the Sinaloa Cartel, a person whose property and interests in property are blocked pursuant to E.O. 13224, as amended.

5. BENGUIAT JIMENEZ, Alberto David, Mexico City, Mexico; DOB 01 Feb 1982; POB Baja California, Mexico; nationality Mexico; Gender Male; Secondary sanctions risk: section 1(b) of Executive Order 13224, as amended by Executive Order 13886; C.U.R.P. BEJA820201HBCNMLOO (Mexico) (individual) [SDGT] [ILLICIT-DRUGS-EO14059] (Linked To: SINALOA CARTEL).

Designated pursuant to section 1(b)(i)(B) of E.O. 14059 for having provided, or attempted to provide, financial, material, or technological support for, or goods or services in support of, the Sinaloa Cartel, a person whose property and interests in property are blocked pursuant to E.O. 14059.

Designated pursuant to section 1(a)(iii)(C) of E.O. 13224, as amended, for having materially assisted, sponsored, or provided financial, material, or technological support for, or goods or services to or in support of, the Sinaloa Cartel, a person whose property and interests in property are blocked pursuant to E.O. 13224, as amended.

6. VIRAMONTES SESTEAGA, Alan (a.k.a. “Cochito”), Sonora, Mexico; DOB 18 Dec 1977; POB Sonora, Mexico; nationality Mexico; Gender Male; Secondary sanctions risk: section 1(b) of Executive Order 13224, as amended by Executive Order 13886; C.U.R.P. VISA771218HSRRSL03 (Mexico) (individual) [SDGT] [ILLICIT-DRUGS-EO14059] (Linked To: SINALOA CARTEL).

Designated pursuant to section 1(b)(i)(B) of E.O. 14059 for having provided, or attempted to provide, financial, material, or technological support for, or goods or services in support of, the Sinaloa Cartel, a person whose property and interests in property are blocked pursuant to E.O. 14059.

Designated pursuant to section 1(a)(iii)(C) of E.O. 13224, as amended, for having materially assisted, sponsored, or provided financial, material, or technological support for, or goods or services to or in support of, the Sinaloa Cartel, a person whose property and interests in property are blocked pursuant to E.O. 13224, as amended.

Entities

1. TAPGAS MEXICO S.A. DE C.V., Culiacan, Sinaloa, Mexico; Secondary sanctions risk: section 1(b) of Executive Order 13224, as amended by Executive Order 13886; Organization Established Date 15 Jan 2018; Organization Type: Other information technology and computer service activities; R.F.C. TME180115UD6 (Mexico) [SDGT] [ILLICIT-DRUGS-EO14059] (Linked To: ESPARRAGOZA ROSAS, Enrique Dann).

Designated pursuant to section 1(b)(iii) of E.O. 14059 for having been owned, controlled, or directed by, or has acted or purported to act for or on behalf of, directly or indirectly, Enrique Dann Esparragoza Rosas, a person whose property and interests in property are proposed to be blocked pursuant to E.O. 14059.

Designated pursuant to section 1(a)(iii)(A) of E.O. 13224, as amended, for having been owned, controlled, or directed by, or has acted or purported to act for or on behalf of, directly or indirectly, Enrique Dann Esparragoza Rosas, a person whose property and interests in property are proposed to be blocked pursuant to E.O. 13224, as amended.

2. GRUPO UNTER EMPRESARIAL S.A. DE C.V., Cuautitlan Izcalli, Estado de Mexico, Mexico; Secondary sanctions risk: section 1(b) of Executive Order 13224, as amended by Executive Order 13886; Organization Established Date 03 Jul 2015; Organization Type: Advertising; Folio Mercantil No. 24550 (Mexico) [SDGT] [ILLICIT-DRUGS-EO14059] (Linked To: BENGUIAT JIMENEZ, Alberto David).

Designated pursuant to section 1(b)(iii) of E.O. 14059 for having been owned, controlled, or directed by, or has acted or purported to act for or on behalf of, directly or indirectly, Alberto David Benguiat Jimenez, a person whose property and interests in property are proposed to be blocked pursuant to E.O. 14059.

Designated pursuant to section 1(a)(iii)(A) of E.O. 13224, as amended, for having been owned, controlled, or directed by, or has acted or purported to act for or on behalf of, directly or indirectly, Alberto David Benguiat Jimenez, a person whose property and interests in property are proposed to be blocked pursuant to E.O. 13224, as amended.

3. GRUPO VINDENDE S.A. DE C.V., Naucalpan de Juarez, Estado de Mexico, Mexico; Secondary sanctions risk: section 1(b) of Executive Order 13224, as amended by Executive Order 13886; Organization Established Date 26 Feb 2019; Organization Type: Construction of other civil engineering projects; Folio Mercantil No. N-2019041033 (Mexico) [SDGT] [ILLICIT-DRUGS-EO14059] (Linked To: BENGUIAT JIMENEZ, Alberto David).

Designated pursuant to section 1(b)(iii) of E.O. 14059 for having been owned, controlled, or directed by, or has acted or purported to act for or on behalf of, directly or indirectly, Alberto David Benguiat Jimenez, a person whose property and interests in property are proposed to be blocked pursuant to E.O. 14059.

Designated pursuant to section 1(a)(iii)(A) of E.O. 13224, as amended, for having been owned, controlled, or directed by, or has acted or purported to act for or on behalf of, directly or indirectly, Alberto David Benguiat Jimenez, a person whose property and interests in property are proposed to be blocked pursuant to E.O. 13224, as amended.

4. GRUPO ZIPFEL DE MEXICO S.A. DE C.V., Naucalpan de Juarez, Estado de Mexico, Mexico; Secondary sanctions risk: section 1(b) of Executive Order 13224, as amended by Executive Order 13886; Organization Established Date 21 May 2019; Organization Type: Wholesale and retail trade; Folio Mercantil No. N-2019048659 (Mexico) [SDGT] [ILLICIT-DRUGS-EO14059] (Linked To: BENGUIAT JIMENEZ, Alberto David).

Designated pursuant to section 1(b)(iii) of E.O. 14059 for having been owned, controlled, or directed by, or has acted or purported to act for or on behalf of, directly or indirectly, Alberto David Benguiat Jimenez, a person whose property and interests in property are proposed to be blocked pursuant to E.O. 14059.

Designated pursuant to section 1(a)(iii)(A) of E.O. 13224, as amended, for having been owned, controlled, or directed by, or has acted or purported to act for or on behalf of, directly or indirectly, Alberto David Benguiat Jimenez, a person whose property and interests in property are proposed to be blocked pursuant to E.O. 13224, as amended.

5. PERSONAS UNIDAS HOAS, S.A.P.I. DE C.V., Mexico City, Mexico; Secondary sanctions risk: section 1(b) of Executive Order 13224, as amended by Executive Order 13886; Organization Established Date 13 Apr 2021; Organization Type: Wholesale and retail trade; Folio Mercantil No. N-2021029609 (Mexico) [SDGT] [ILLICIT-DRUGS-EO14059] (Linked To: BENGUIAT JIMENEZ, Alberto David).

Designated pursuant to section 1(b)(iii) of E.O. 14059 for having been owned, controlled, or directed by, or has acted or purported to act for or on behalf of, directly or indirectly, Alberto David Benguiat Jimenez, a person whose property and interests in property are proposed to be blocked pursuant to E.O. 14059.

Designated pursuant to section 1(a)(iii)(A) of E.O. 13224, as amended, for having been owned, controlled, or directed by, or has acted or purported to act for or on behalf of, directly or indirectly, Alberto David Benguiat Jimenez, a person whose property and interests in property are proposed to be blocked pursuant to E.O. 13224, as amended.

6. PRODUCTIONS PIPO S. DE R.L. DE C.V., Ecatepec de Morelos, Estado de Mexico, Mexico; Secondary sanctions risk: section 1(b) of Executive Order 13224, as amended by Executive Order 13886; Organization Established Date 28 Nov 2019; Organization Type: Other amusement and recreation activities; Folio Mercantil No. N-2019095423 (Mexico) [SDGT] [ILLICIT-DRUGS-EO14059] (Linked To: BENGUIAT JIMENEZ, Alberto David).

Designated pursuant to section 1(b)(iii) of E.O. 14059 for having been owned, controlled, or directed by, or has acted or purported to act for or on behalf of, directly or indirectly, Alberto David Benguiat Jimenez, a person whose property and interests in property are proposed to be blocked pursuant to E.O. 14059.

Designated pursuant to section 1(a)(iii)(A) of E.O. 13224, as amended, for having been owned, controlled, or directed by, or has acted or purported to act for or on behalf of, directly or indirectly, Alberto David Benguiat Jimenez, a person whose property and interests in property are proposed to be blocked pursuant to E.O. 13224, as amended.

7. SCATMAN AND HATMAN CORP, S.A.P.I. DE C.V. (a.k.a. SCATMAN & HATMAN CORP, S.A.P.I. DE C.V.), Mexico City, Mexico; Secondary sanctions risk: section 1(b) of Executive Order 13224, as amended by Executive Order 13886; Organization Established Date 04 Dec 2021; Organization Type: Wholesale and retail trade; Folio Mercantil No. N-2021024996 (Mexico) [SDGT] [ILLICIT-DRUGS-EO14059] (Linked To: BENGUIAT JIMENEZ, Alberto David).

Designated pursuant to section 1(b)(iii) of E.O. 14059 for having been owned, controlled, or directed by, or has acted or purported to act for or on behalf of, directly or indirectly, Alberto David Benguiat Jimenez, a person whose property and interests in property are proposed to be blocked pursuant to E.O. 14059.

Designated pursuant to section 1(a)(iii)(A) of E.O. 13224, as amended, for having been owned, controlled, or directed by, or has acted or purported to act for or on behalf of, directly or indirectly, Alberto David Benguiat Jimenez, a person whose property and interests in property are proposed to be blocked pursuant to E.O. 13224, as amended.

Lisa M. Palluconi,
Acting Director, Office of Foreign Assets Control.

[FR Doc. 2025-05744 Filed 4-2-25; 8:45 am]

BILLING CODE 4810-AL-P